DEPARTMENT OF STATE

[Public Notice: 9614]

Notification of the Next CAFTA-DR Environmental Affairs Council Meeting

AGENCY: Department of State.

ACTION: Notice of the CAFTA-DR Environmental Affairs Council Meeting and request for comments.

SUMMARY: The Department of State and the Office of the United States Trade Representative are providing notice that the parties to the Dominican Republic-Central America-United States Free Trade Agreement (CAFTA-DR) intend to hold the tenth meeting of the Environmental Affairs Council (the Council) established under Chapter 17 (Environment) of that agreement in San Salvador, El Salvador, on July 7 and 8, 2016. The Council will commemorate the tenth anniversary of CAFTA-DR by highlighting the many environmental accomplishments of the past ten years and charting a course for the future. On July 7, the Council will meet to review implementation of Chapter 17 of CAFTA-DR and the CAFTA-DR Environmental Cooperation Agreement (ECA). All interested persons are invited to attend the Council's public session beginning at 9:00 a.m. on July 8 at the Hotel Sheraton Presidente in San Salvador.

During the July 7 Council meeting, Council members will present the progress made and challenges in implementing Chapter 17 obligations as well as the outcomes achieved through environmental cooperation in their respective countries. The Council will also receive a presentation from the CAFTA-DR Secretariat for Environmental Matters (SEM). More information on the Council is included below under SUPPLEMENTARY INFORMATION.

All interested persons are invited to attend the July 8 public session where they will have an opportunity to ask questions and discuss implementation of Chapter 17 and the Environmental Cooperation Agreement with Council Members. At the public session, the Council hopes to receive input from the public on current environmental challenges and ideas for future cooperation. The session will also offer the opportunity to hear directly from beneficiaries of the CAFTA-DR Environmental Cooperation Program and explore environmental progress in CAFTA-DR countries through a number of side events and interactive presentations. If you would like to attend the public session, please notify Neal Morris and Laura Buffo at the email addresses listed under the heading ADDRESSES. Please include your full name and identify any organization or group you represent.

The Department of State and Office of the United States Trade Representative also invite written comments or suggestions to be submitted before July 1, 2016 regarding topics to be discussed at the Council meeting. In preparing comments, we encourage submitters to refer to Chapter 17 of the CAFTA-DR, the Final Environmental Review of the CAFTA-DR, and the CAFTA-DR Environmental Cooperation Agreement (ECA) (documents available at http://www.state.gov/e/oes/eqt/trade/caftadr/index.htm). Instructions on how to submit comments are under the heading ADDRESSES.

DATES: The public session of the Council will be held on July 8, 2016, from 9:00 a.m.-4:00 p.m. at the Hotel Sheraton Presidente in San Salvador, El Salvador. We request comments and suggestions in writing no later than July 1, 2016.

ADDRESSES: Written comments or suggestions should be submitted to both:

(1) Neal Morris, U.S. Department of State, Bureau of Oceans and International Environmental and Scientific Affairs, Office of Environmental Quality and Transboundary Issues by email to MorrisND@state.gov with the subject line “CAFTA-DR EAC Meeting” or by fax to (202) 647-5947; and

(2) Laura Buffo, Director for Environment and Natural Resources, Office of the United States Trade Representative by email to Laura_Buffo@ustr.eop.gov with the subject line “CAFTA-DR EAC Meeting” or by fax to (202) 395-9517.

If you have access to the Internet you can view and comment on this notice by going to: http://www.regulations.gov/#!home and searching for docket number DOS-2016-0045.

FOR FURTHER INFORMATION CONTACT: Neal Morris, (202) 647-9312, or Laura Buffo, (202) 395-9424

SUPPLEMENTARY INFORMATION: Article 17.5 of the CAFTA-DR establishes an Environmental Affairs Council (the Council) and, unless the CAFTA-DR parties otherwise agree, requires it to meet annually to oversee the implementation of, and review progress under, Chapter 17. Article 17.5 further requires, unless the parties otherwise agree, that each meeting of the Council include a session in which members of the Council have an opportunity to meet with the public to discuss matters relating to the implementation of Chapter 17.

In Article 17.9, the parties recognize the importance of strengthening capacity to protect the environment and to promote sustainable development in concert with strengthening trade and investment relations and state their commitment to expanding their cooperative relationship on environmental matters. Article 17.9 also references the ECA, which sets out certain priority areas of cooperation on environmental activities. These priority areas include, among others: Reinforcing institutional and legal frameworks and the capacity to develop, implement, administer, and enforce environmental laws, regulations, standards and policies; conserving and managing shared, migratory and endangered species in international commercial trade and management of protected areas; promoting best practices leading to sustainable management of the environment; and facilitating technology development and transfer and training to promote clean production technologies. In preparing comments, we encourage submitters to refer to:

• Chapter 17 of the CAFTA-DR,

• The Final Environmental Review of CAFTA-DR, and

• The ECA.

These documents are available at: http://www.state.gov/e/oes/eqt/trade/caftadr/index.htm. Visit http://www.state.gov and the USTR Web site at www.ustr.gov for more information.

Dated: June 17, 2016.
Robert Wing,
Acting Director, Office of Environmental Quality and Transboundary Issues, U.S. Department of State.

[FR Doc. 2016-14927 Filed 6-22-16; 8:45 am]

BILLING CODE 4710-09-P